DEPARTMENT OF AGRICULTURE

Food and Nutrition Service

7 CFR Part 278

Participation of Retail Food Stores, Wholesale Food Concerns and Insured Financial Institutions

CFR Correction

In Title 7 of the Code of Federal Regulations, Parts 210 to 299, revised as of January 1, 2015, on page 1031, in § 278.6, in the introductory text of paragraph (h), after the word “bond”, add the words “or irrevocable letter of credit”.

[FR Doc. 2015-32201 Filed 12-22-15; 8:45 am]

BILLING CODE 1505-01-P